DEPARTMENT OF COMMERCE

National Oceanic and Atmospheric Administration

[I.D. 060303D]

Atlantic Highly Migratory Species (HMS); Issues and Options Paper for Amendment 2 to the Fishery Management Plan for Atlantic Tunas, Swordfish and Sharks (HMS FMP) and Amendment 2 to the Atlantic Billfish Fishery Management Plan (Billfish FMP); Additional Public Scoping Meeting and Extension of Comment Period

AGENCY: National Marine Fisheries Service (NMFS), National Oceanic and Atmospheric Administration (NOAA), Commerce.

ACTION: Notice of additional public scoping meeting; extension of comment period.

SUMMARY: In a previously published notice, NMFS announced the availability of an issues and options paper and the schedule of nine scoping meetings to discuss the issues described in the paper. In this notice, NMFS announces one additional scoping meeting and extends the comment period on the issues and options paper. Comments received on the issues and options paper and in the scoping meetings will assist NMFS in developing Amendment 2 to the HMS FMP and Amendment 2 to the Billfish FMP.

DATES: The additional public scoping meeting will be held on: Thursday, June 17, 2004, from 6:30 - 8:30 p.m.

The July 14, 2004, comment period on the issues and options paper has been extended to July 23, 2004.

ADDRESSES: The additional public scoping meeting will be held in: Pier House Hotel, 1 Duval Street, Key West, FL 33040.

Written comments on the issues and options paper should be mailed to Christopher Rogers, Chief, NMFS Highly Migratory Species Management Division, 1315 East-West Highway, Silver Spring, MD 20910; or faxed to (301) 713-1917. Comments may also be submitted by e-mail: 060303D.issues@noaa.gov.

Copies of the issues and options paper or the HMS and Billfish FMPs can be obtained from the HMS website at: http://www.nmfs.noaa.gov/sfa/hms, by contacting Karyl Brewster-Geisz at (301) 713-2347, or by writing to the address above.

FOR FURTHER INFORMATION CONTACT: Karyl Brewster-Geisz at (301) 713-2347, Mark Murray-Brown at (978) 281-9260, or Russell Dunn at (727) 570-5447.

SUPPLEMENTARY INFORMATION: Atlantic tuna, swordfish, shark and billfish fisheries are managed under the authority of the Magnuson-Stevens Fishery Conservation and Management Act and regulated pursuant to the Atlantic Tunas Convention Act (ATCA), which authorizes the promulgation of rulemakings to implement recommendations of the International Convention for the Conservation of Atlantic Tunas (ICCAT). Implementing regulations for both the HMS FMP and the Billfish FMP are at 50 CFR part 635. On April 30, 2004 (69 FR 23730), NMFS published in the Federal Register a notice of availability of an issues and options paper that examines possible alternatives for amending some of the regulations in the HMS and Billfish FMPs. That notice included the schedule for nine scoping meetings in Gloucester, MA; Ocean City, MD; New Orleans, LA; Manteo, NC; San Juan, PR; Destin, FL; Montauk, NY; Port Aransas, TX; and Cocoa Beach, FL. Complete schedule information of those public scoping meetings along with information pertaining to the issues and options paper are contained in the April 30, 2004, notice of availability and are not repeated here.

Since the publication of the notice of availability, NMFS has scheduled one additional scoping meeting in Key West, FL, to allow interested parties an additional chance to comment on and discuss the issues included in the issues and options paper.

Additionally, to help ensure that all interested parties have adequate time to prepare their written comments, NMFS is extending the July 14, 2004, public comment period on the issues and options paper to July 23, 2004.

The public is reminded that NMFS expects participants at the public meetings to conduct themselves appropriately. At the beginning of each public scoping meeting, an NMFS representative will explain the ground rules (e.g., alcohol is prohibited from the hearing room; attendees will be called to give their comments in the order in which they registered to speak; each attendee will have an equal amount of time to speak; and attendees should not interrupt one another). An NMFS representative will attempt to structure the meeting so that all attendees will be able to comment, if they so choose, regardless of the controversial nature of the subject(s). Attendees are expected to respect the ground rules, and, if they do not, they will be asked to leave the meeting.

Special Accommodations

These meetings are physically accessible to people with disabilities. Requests for sign language interpretation or other auxiliary aids should be directed to Heather Stirratt, (301) 713-2347, at least seven days prior to the meeting date.

Authority: 16 U.S.C. 971 et seq. and 1801 et seq.

Dated: May 20, 2004.
Bruce C. Morehead,
Acting Director, Office of Sustainable Fisheries, National Marine Fisheries Service.

[FR Doc. 04-11912 Filed 5-25-04; 8:45 am]

BILLING CODE 3510-22-S